DEPARTMENT OF TRANSPORTATION

Maritime Administration

[Docket No. MARAD 2009 0082]

Information Collection Available for Public Comments and Recommendations

ACTION: Notice and request for comments.

SUMMARY: In accordance with the Paperwork Reduction Act of 1995, this notice announces the Maritime Administration's (MARAD's) intentions to request the Office of Management and Budget (OMB) approval for a new information collection to assess the educational outcome of U.S. Merchant Marine Academy alumni.

DATES: Comments should be submitted on or before November 9, 2009.

FOR FURTHER INFORMATION CONTACT: Dr. Shashi Kumar, U.S. Merchant Marine Academy, Kings Point, NY 11024. Telephone: 516-726-5833; Fax: 516-773-5539, or E-Mail: kumars@usmma.edu.

Copies of this collection also can be obtained from that office.

SUPPLEMENTARY INFORMATION: Title of Collection: United States Merchant Marine Academy Alumni Survey.

Type of Request: New collection.

OMB Control Number: 2133-NEW.

Form Numbers: KP2-66-DK1, KP2-67-DK2, KP2-68-DK3, KP2-69-ENG1, KP2-70-ENG2, KP2-71-ENG3.

Expiration Date of Approval: Three years from date of approval by the Office of Management and Budget.

Summary of Collection of Information: The United States Merchant Marine Academy is an accredited federal service academy that confers BS and MS degrees. The Academy is expected to assess its educational outcomes and report those findings to its Regional Accreditation authority in order to maintain the institution's degree granting status. Periodic survey of alumni cohorts and analysis of the data gathered is a routine higher education assessment practice in the United States.

Need and Use of the Information: The information gathered will be analyzed and used for program management and improvement.

Description of Respondents: Respondents are graduates of the U.S. Merchant Marine Academy.

Annual Responses: 500 responses.

Annual Burden: 250 hours.

Comments: Comments should refer to the docket number that appears at the top of this document. Written comments may be submitted to the Docket Clerk, U.S. DOT Dockets, Room W12-140, 1200 New Jersey Avenue, SE., Washington, DC 20590. Comments also may be submitted by electronic means via the Internet at http://www.regulations.gov/search/index.jsp. Specifically address whether this information collection is necessary for proper performance of the functions of the agency and will have practical utility, accuracy of the burden estimates, ways to minimize this burden, and ways to enhance the quality, utility, and clarity of the information to be collected. All comments received will be available for examination at the above address between 10 a.m. and 5 p.m. EDT (or EST), Monday through Friday, except Federal Holidays. An electronic version of this document is available on the World Wide Web at http://www.regulations.gov/search/index.jsp.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.regulations.gov/search/index.jsp.

Authority: 49 CFR 1.66.

Dated: September 1, 2009.
By Order of the Maritime Administrator.
Christine Gurland,
Acting Secretary, Maritime Administration.

[FR Doc. E9-21817 Filed 9-9-09; 8:45 am]

BILLING CODE 4910-81-P